FEDERAL COMMUNICATIONS COMMISSION

Public Information Collections Approved by Office of Management and Budget

May 15, 2000.

The Federal Communications Commission (FCC) has received Office of Management and Budget (OMB) approval for the following public information collections pursuant to the Paperwork Reduction Act of 1995, Pub. L. 96-511. An agency may not conduct or sponsor a collection of information unless it displays a currently valid control number. Not withstanding any other provisions of law, no person shall be subject to any penalty for failing to comply with a collection of information subject to the Paperwork Reduction Act (PRA) that does not display a valid control number. Questions concerning the OMB control numbers and expiration dates should be directed to Judy Boley, Federal Communications Commission, (202) 418-0214.

Federal Communications Commission

OMB Control No.: 3060-0926.

Expiration Date: 05/31/2003.

Title: Transfer of the 4.9 GHz from Federal Government Use to the Private Sector—NPRM.

Form No.: FCC 601-605.

Estimated Annual Burden: 11,300 burden hours annually, 19 hours per response; 600 responses.

Description: The various information reporting and verification requirements, and the prospective coordination requirement will be used by the Commission to verify licensee compliance with Commission rules and regulations, and to ensure that licensees continue to fulfill their statutory responsibilities in accordance with the Communications Act of 1934. Such information has been used in the past and will continue to be used to minimize interference, verify that applicants are legally and technically qualified to hold licenses, and to determine compliance with Commission rules.

OMB Control No.: 3060-0809.

Expiration Date: 04/30/2003.

Title: Communications Assistance for Law Enforcement Act, Report and Order and Order on Reconsideration.

Form No.: N/A.

Estimated Annual Burden: 36,000 burden hours annually, approximately 6 hours per response; 6,000 responses.

Description: The information submitted to the Commission will be used to determine whether or not telecommunications carriers are in conformance with the Communications Assistance for Law Enforcement Act requirements.

Federal Communications Commission.
Magalie Roman Salas,
Secretary.

[FR Doc. 00-12766 Filed 5-19-00; 8:45 am]

BILLING CODE 6712-01-U